DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Billfish Certificate of Eligibility.

OMB Control Number: 0648-0216.

Form Number(s): NA.

Type of Request: Regular (extension of a current information collection).

Number of Respondents: 200.

Average Hours per Response: Initial dealer completion, 20 minutes; subsequent dealer completion, 2 minutes.

Burden Hours: 43.

Needs and Uses: This request is for an extension of a currently approved information collection.

A Certificate of Eligibility (COE) for Billfishes is required under 50 CFR part 635 to accompany all billfish, except for a billfish landed in a Pacific state and remaining in the state of landing. This documentation certifies that the accompanying billfish was not harvested from the applicable Atlantic Ocean management unit (described on the NOAA sample certificate), and identifies the vessel landing the billfish, the vessel's homeport, the port of offloading, and the date of offloading. The certificate must accompany the billfish to any dealer or processor who subsequently receives or possesses the billfish. The extension of this collection is necessary to implement the Consolidated Highly Migratory Species Fishery Management Plan, which contains an objective to reserve Atlantic billfish for the recreational fishery.

On October 5, 2012, the President signed Public Law 112-183 entitled the “Billfish Conservation Act of 2012,” which prohibits the sale of billfish (or products containing billfish), or the custody, control, or possession of billfish (or products containing billfish) for purposes of sale. The only exemptions to this prohibition include billfish landed by U.S. fishing vessels in Hawaii and Pacific Insular Areas, and billfish landed by foreign fishing vessels in the Pacific Insular Areas when the foreign-caught billfish are exported to non-U.S. markets or retained within Hawaii and the Pacific Insular Areas for local consumption. NOAA is currently developing implementing regulations for the Billfish Conservation Act. If necessary, upon publication of the proposed rule, the information collection associated with the Billfish Certificate of Eligibility (0648-0216) may be revised accordingly.

Affected Public: Business or other for-profit organizations.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 6, 2014.
Glenna Mickelson,
Management Analyst, Office of the Chief Information Officer.

[FR Doc. 2014-24178 Filed 10-9-14; 8:45 am]

BILLING CODE 3510-22-P